DEPARTMENT OF VETERANS AFFAIRS

Advisory Committee on Former Prisoners of War; Notice of Meeting Cancellation

The Department of Veterans Affairs gives notice under the Federal Advisory Committee Act that the meeting of the Advisory Committee on Former Prisoners of War, previously scheduled to be held at the Westin Peachtree Plaza Hotel, 210 Peachtree Street NW., Atlanta, GA 30303, on September 13-15, 2017, has been cancelled.

For more information, please contact Leslie N. Williams, Designated Federal Officer, Department of Veterans Affairs, Veterans Benefits Administration, Benefits Assistance Service, at (202) 530-9219 or via email at Leslie.Williams1@va.gov.

Dated: September 11, 2017.
Jelessa M. Burney,
Federal Advisory Committee Management Officer.

[FR Doc. 2017-19502 Filed 9-13-17; 8:45 am]

BILLING CODE P